ENVIRONMENTAL PROTECTION AGENCY

[ER-FRL-6632-5]

Environmental Impact Statements; Notice of Availability

Responsible Agency: Office of Federal Activities, General Information (202) 564-7167 or http://www.epa.gov/complianc/nepa/.

Weekly receipt of Environmental Impact Statements

Filed August 19, 2002 Through August 23, 2002

Pursuant to 40 CFR 1506.9.

EIS No. 220354, Draft EIS, NOA, Northeast Skate Complex Fishery Management Plan, To Implement Management Measures, Magnuson-Stevens Fishery Conservation and Management Act, New England Fishery Management Council, Comment Period Ends: October 15, 2002, Contact: Patricia Kurkul (202) 482-5181.

EIS No. 220355, Draft EIS, NOA, Atlantic Surfclam and Ocean Quahog Fishery Management Plan (FMP) Amendment 13, Implementation U.S. Exclusive Economic Zone, Along the Atlantic Seaboard from Maine through North Carolina, Comment Period Ends: October 15, 2002, Contact: Patricia A. Kurkul (978) 281-9210.

EIS No. 220356, Final EIS, FRC, CT, NY, Islander East Pipeline Project, Interstate Natural Gas Pipeline Facilities Construction and Operation to provide 285,000 dekatherms per day (Dth/d) of Natural Gas to Energy Markets in Connecticut, Long Island and New York City, New Haven, CT and Suffolk County, NY, Wait Period Ends: September 30, 2002, Contact: Margalie R. Salas (202) 208-2156.

EIS No. 220357, Draft EIS, FRC, CT, NY, Eastern Long Island Extension Project, Construction and Operation of a 175.000 dekatherms per day (Dth/d) of Natural Gas to Energy Markets in Long Island, New York, Docket No. CP02-52-000, Long Island, Suffolk County, NY and New Haven County, CT, Comment Period Ends: October 15, 2002, Contact: Jeffery Shenot (202) 502-8329. This document is available on the Internet at: http://www.ferc.gov.

EIS No. 220358, Draft EIS, JUS, CA, Juvenile Justice Campus (JJC) Construction and Operation of a 1,400 Beds and Related Functions Facility, Conditional Use Permit, Fresno County, CA, Comment Period Ends: October 15, 2002, Contact: Ms. Jill Young (202) 353-7302.

EIS No. 220359, Final EIS, BIA, CA, Agua Caliente Indian Reservation Project, Proposed Section 14 Specific Plan and Master Development Plan, Agua Caliente Band of Cahulla Indians, City of Palm Springs, Riverside County, CA, Wait Period Ends: September 30, 2002, Contact: William Allan (916) 978-6043.

EIS No. 220360, Final EIS, AFS, MT, Game Range Project, Ecosystem Health and Productivity Improvements, Fuel Loading Reduction and Game Winter Range Condition Improvements and Maintenance, Lolo National Forest Plain/Thompson Thompson Falls Ranger District, Thompson River to Squaw Creek, Thompson Falls, MT, Wait Period Ends: September 30, 2002, Contact: Frank Yurzyk (406) 826-3821.

EIS No. 220361, Final EIS, BLM, CO, NM, Programmatic EIS—Southern Ute Indian Reservation Oil and Gas Development, Implementation, San Juan Basin, LaPlata, Archuleta, Montezuma Counties, CO and Rio Arriba and San Juan Counties, NM, Wait Period Ends: September 30, 2002, Contact: Walt Brown (970) 385-1372.

EIS No. 220362, Final EIS, DOE, OR, WA, OR, WA, McNary-John Day Transmission Line Project, Construction, Operation and Maintenance of a 79-mile-long 500-Kilovolt-Transmission Line between McNary Substation and John Day Substation, Umatilla and Sherman Counties, OR and Benton and Klickitat Counties, WA, Wait Period Ends: September 30, 2002, Contact: Stacy Mason (503) 230-5455.

EIS No. 220363, Final EIS, IBR, SD, Angostura Unit—(Dam, Reservoir and Irrigation Facilities) Renewal of a Long-Term Water Service Contract, Cheyenne River Basin, Pine Ridge Reservation, Bismarck County, SD, Wait Period Ends: September 30, 2002, Contact: Kenneth Parr (605) 394-9757.

EIS No. 220364, Final EIS, FAA, CA, Santa Barbara Airport Improvements, Extension of Runway Safety Areas for Runway 7/25, Expansion of the Airline Terminal Building, New Air Cargo Building, New Taxiway M, Pavement of Taxiway B, Additional T-Hangers and a New On-Airport Service Road, Funding, COE Section 404 and 10 Permits, Santa Barbara County, CA, Wait Period Ends: September 30, 2002, Contact: David B. Kessler (310) 725-3615.

EIS No. 220365, Draft EIS, DOE, WA, Plymouth Generating Facility, Construct and Operate a 307-megawatt (MW) Natural Gas-Fired, Combined Cycle Power Generation Facility on 44.5 Acre Site, Conditional Use/Special Permit, Benton County, WA, Comment Period Ends: October 15, 2002, Contact: Phil W. Smith (503) 230-3294. This document is available on the Internet at: http://www.ferc.gov.

Amended Notices

EIS No. 220253, Draft EIS, AFS, CA, Sirretta Peak Trail Project, To Explore Locations for the Construction of Trail Route Open to Off-Highway Vehicles, New Information Relating to the Sierra Nevada Forest Plan Amendment, Cannell Meadow Ranger District, Sequoia National Forest, Tulare County, CA, Comment Period Ends: September 12, 2002, Contact: Chris Ryan (661) 391-6107. Revision of FR Notice Published on 6/28/2002: CEQ Comment Period Ending 8/12/2002 has been Extended to 9/12/2002.

EIS No. 210305, Draft Supplement, FAA, MN, Flying Cloud Airport, Substantive Changes to Alternatives and New Information, Extension of the Runways 9R/27L and 9L/27R, Long-Term Comprehensive Development, In the City of Eden Prairie, Hennepin County, MN, Comment Period Ends: October 25, 2002, Contact: Glen Orcutt (612) 713-4354. Revision of FR Notice Published on 8/24/2001: CEQ Review Period Ending 8/7/2001 has been extended to 10/25/2002.

EIS No. 220288, Draft EIS, FHW, CA, Willits Freeway Bypass Project, Construction and Operation of a New Segment of U.S. 101, COE Section 404 Permit, NPDES Permit and Endangered Species Act (Incidental Take Permit), City of Willits, Mendocino County, CA, Comment Period Ends: September 9, 2002, Contact: Maiser Khaled (916) 498-5020. Revision of FR Notice Published on 7/12/2002: CEQ Wait Period Ending on 8/26/2002 has been Extended to 9/9/2002.

EIS No. 220348, Final EIS, AFS, UT, Ray's Valley Road Realignment, Proposal to Reduce or Eliminate Adverse Impacts to Watershed and Aquatic Species and Provide Safer Driving Conditions, Uinta National Forest, Spanish Fork Ranger District, Utah County, UT, Wait Period Ends: September 23, 2002, Contact: Renee Flanagan (801) 342-5100. Revision of FR Notice Published on 8/23/2002: Correction to Wait Period from 9/29/2002 to 9/23/2002.

EIS No. 220349, Draft EIS, FHW, MN, IA, Trunk Highway 60 Reconstruction Project, Improvements from 1.8 miles south of the Minnesota-Iowa Border (120th Street) to Interstate 90 north of the City of Worthington, Funding, COE Section 404 and NPDES Permits, Nobles County, MN and Osceola County, IA, Comment Period Ends: October 8, 2002, Contact: Tamara Cameron (651) 291-6121. Revision of FR notice published on 8/23/2002: Correction to Comment Period from 10-14-2002 to 10-8-2002.

EIS No. 220352, Final EIS, BLM, CA, Northern and Eastern Mojave Planning Area (NEMO), Implementation, California Desert Conservation Area Plan Amendments, Mojave Desert, CA, Wait Period Ends: September 23, 2002, Contact: Edythe Seehafer (760) 252-6021. Revision of FR notice published on 8/23/2002: Correction to Wait Period from 9/29/2002 to 9/23/2002.

EIS No. 220353, Draft Supplement, COE, FL, Coast of Florida Erosion and Storm Effects Study Region III, Construction, Operation and Maintenance, Shore Protection Project, Palm Beach, Broward and Dade Counties, FL, Comment Period Ends: October 8, 2002, Contact: Dale Beter (561) 686-3441. Revision of FR Notice published on 8/23/2002: Correction to Comment Period from 10/14/2002 to 10/8/2002.

Dated: August 27, 2002.
Joseph C. Montgomery,
Director, NEPA Compliance Division, Office of Federal Activities.

[FR Doc. 02-22239 Filed 8-29-02; 8:45 am]

BILLING CODE 6560-50-P